DEPARTMENT OF COMMERCE

National Oceanic and Atmospheric Administration

[RTID 0648-XC654]

Endangered Species; File No. 27106; Correction

AGENCY: National Marine Fisheries Service (NMFS), National Oceanic and Atmospheric Administration (NOAA), Commerce.

ACTION: Notice; correction.

SUMMARY: NMFS is correcting a notice that appeared in the Federal Register on December 22, 2022 announcing that the North Carolina Department of Environment and Natural Resources, Division of Marine Fisheries (NCDMF) applied in due form for a permit pursuant to the Endangered Species Act of 1973, as amended (ESA). There is an error in the description of NCDMF's monitoring program (Observer Program).

DATES: This correction is applicable January 5, 2023.

FOR FURTHER INFORMATION CONTACT: Celeste Stout, NMFS, Office of Protected Resources at celeste.stout@noaa.gov, 301-427-8403; Wendy Piniak, NMFS, Office of Protected Resources at wendy.piniak@noaa.gov, 301-427-8402.

SUPPLEMENTARY INFORMATION: NMFS published a notice in the Federal Register on December 22, 2022 (87 FR 78659) announcing that the NCDMF applied in due form for a permit pursuant to the ESA. NCDMF's application includes a conservation plan designed to minimize and mitigate take of endangered or threatened species. The permit application is for the incidental take of ESA-listed sea turtles and sturgeon associated with the otherwise lawful gill net fisheries operating in the inshore waters of North Carolina. NMFS provided the notice in order to allow other agencies and the public an opportunity to review and comment on the application materials.

The notice incorrectly stated: “NCDMF's monitoring program is largely funded through state appropriations and is supplemented through other sources such as the Atlantic Coastal Cooperative Statistics Program and the National Fish and Wildlife Foundation.” (87 FR 78659, December 22, 2022; 87 FR 78661, December 22, 2022).

While NCDMF's sampling programs are largely funded through state appropriations and are supplemented through other sources such as the Atlantic Coastal Cooperative Statistics Program and the National Fish and Wildlife Foundation, the NCDMF Observer Program is funded completely by the North Carolina Commercial Fishing Resource Fund, where the funds come from an increase in NCDMF's commercial fishing license fees (G.S. 113-173.1). This information is correctly presented in the NCDMF's application, which is available for download and review at https://www.fisheries.noaa.gov/national/endangered-species-conservation/incidental-take-permits and at http://www.regulations.gov. The application is also available upon request (see FOR FURTHER INFORMATION CONTACT).

Dated: December 28, 2022.
Angela Somma,
Chief, Endangered Species Conservation Division, Office of Protected Resources, National Marine Fisheries Service.

[FR Doc. 2022-28553 Filed 1-4-23; 8:45 am]

BILLING CODE 3510-22-P